DEPARTMENT OF HOMELAND SECURITY

Coast Guard

33 CFR Part 117

[Docket No. USCG-2025-0805]

Drawbridge Operation Regulation; Newark Bay, Between the City of Newark and City of Bayonne, NJ

AGENCY: Coast Guard, DHS.

ACTION: Notification of temporary deviation from regulations; request for comments.

SUMMARY: The Coast Guard has issued a temporary deviation from the operating schedule that governs the Lehigh Valley Drawbridge. This deviation will test a change to the drawbridge operation schedule to determine whether a permanent change to the schedule is needed. We invite your comments on this action.

DATES: This deviation is effective from 8 a.m. on January 16, 2026, through 7:59 a.m. on July 14, 2026.

Comments and relate material must reach the Coast Guard on or before April 16, 2026.

ADDRESSES: You may submit comments identified by docket number USCG-2025-0805 at https://www.regulations.gov.

See the “Public Participation and Request for Comments” portion of the SUPPLEMENTARY INFORMATION section below for instructions on submitting comments.

FOR FURTHER INFORMATION CONTACT: If you have questions on this test deviation, call or email Mr. Gregory P. Hitchen, Northeast Coast Guard District (dpb), the Coast Guard; telephone 571-607-8154, email Gregory.P.Hitchen@uscg.mil.

SUPPLEMENTARY INFORMATION:

I. Background, Purpose and Legal Basis

The Lehigh Valley Drawbridge across Newark Bay, between the City of Newark and City of Bayonne, NJ, mile 4.6, owned and operated by Conrail, has a vertical clearance of 35 feet above mean high water when closed and 135 feet above mean high water when open.

The operating schedule of the Lehigh Valley Drawbridge is published in 33 CFR 117.735 and will not change with the implementation of the temporary deviation allowing remote operation of the bridge.

Conrail has requested this test deviation to improve the efficiency of bridge openings. Currently the on-site bridge operator must consult with the Conrail train dispatcher in Mount Laurel, NJ, to obtain authorization to open the Lehigh Valley Drawbridge. Remote operations will facilitate direct communication between the mariner and the Conrail train dispatcher, who has much better situational awareness of the multimodal transportation picture.

This deviation will also allow the Arthur Kill Railroad Bridge and Hack Freight Railroad Bridge to be remotely operated from the Conrail North Jersey Dispatch Center in Mount Laurel, NJ, instead of being operated by the bridge tender at the Lehigh Valley Drawbridge. The operating schedules for the Arthur Kill Railroad Bridge and Hack Freight Railroad Bridge are published in 33 CFR 117.702 and 33 CFR 117.723, respectively. These regulations already authorize both bridges to be remotely operated, and their schedules will not change as a result of the implementation of remote operation of the Lehigh Valley Drawbridge.

There are 28 daily train transits that cross the Lehigh Valley Drawbridge and a daily average of four bridge openings for vessel transits. The bridge is normally maintained in the closed position due to the average daily number of trains crossing the bridge. Newark Bay is a major commercial waterway containing multiple waterfront facilities. However, most of these facilities are well south (downstream) of the Lehigh Valley Lift Bridge.

Conrail has requested to operate this bridge remotely from their railroad terminal from their Conrail North Jersey Dispatch Center, in Mount Laurel, NJ. Conrail has incorporated sensors and other technologies into the bridge to allow for the safe and efficient remote operation of the bridge. The remote operations system includes eight camera views (four marine and four rail), marine radar, sonar, automated integration system (AIS) sensors, integration software, a dedicated phone line for bridge operations, radiotelephone on VHF-FM channels 13 and 16, and an AIS transmitter to provide bridge status (LEHIGH VALLEY BRG—OPEN, LEHIGH VALLEY BRG—CLOSED, and LEHIGH VALLEY BRG—INOP). The AIS transmitter will transmit the bridge status every two minutes and upon a change in bridge status.

The remote operation system is designed to provide equal or greater capabilities compared to the on-site bridge tender in visibility of the waterway and bridge, and in signals (communications) via sound and visual signals and radio telephone (voice) via VHF-FM channels 13 and 16. The remote operation system also incorporates real-time bridge status via AIS signal to aid mariners in voyage planning and navigational decision making, a dedicated telephone line (856) 231-2301 for bridge operations, and push-to-talk (PTT) capability on VHF-FM channels 13 and 16. Vessels may push the PTT button five times while on VHF-FM channel 13 and the bridge operator will receive and respond to the request and commence opening of the bridge.

The remote operation system will be considered failed and qualified personnel will return and operate the Lehigh Valley Drawbridge, Arthur Kill Railroad Bridge, Hack Freight Railroad Bridge within 60 minutes, if any of the following conditions are found: (1) The remote operation system becomes incapable of safely and effectively operating the bridge from the remote operation center, (2) visibility of the waterway or bridge is degraded to less than equal that of an on-site bridge tender (all eight camera views are required), (3) signals (communications) via sound or visual signals or radio telephone (voice) via VHF-FM channels 13 or 16 become inoperative, or (4) AIS becomes inoperative.

The test deviation will commence at 8 a.m. on January 16, 2026, and conclude at 7:59 a.m. on July 14, 2026. During the test deviation, a bridge tender will be stationed on-site at the bridge and will be able to immediately take local control of the bridge, as required.

Vessels that require an opening shall continue to request an opening via the methods (sound or visual signals or radio telephone (VHF-FM) voice communications) as defined in 33 CFR 117.15(b) through (d), via telephone at (856) 231-2301, or push-to-talk (PTT) on VHF-FM channel 13. During the test deviation, if the North Jersey Dispatch Center does not respond to a vessel's request, or is unable to operate the bridge, the bridge tender at the bridge will take immediate action to respond to the vessel's request for a bridge opening and commence opening of the bridge in accordance with 33 CFR 177.735.

Conrail has conducted significant coordination with the U.S. Coast Guard, Port of New York and New Jersey Harbor Safety, Navigation, and Operations Committee, and other maritime stakeholders regarding remote operation of the Lehigh Valley Drawbridge and its plan to perform this test deviation.

The Coast Guard will also inform the users of the waterways through our Local and Broadcast Notices to Mariners of the change in operating schedule for the bridge so that vessel operators can arrange their transits to minimize any impact caused by the temporary deviation.

This test deviation will run simultaneously with a Notice of Proposed Rulemaking, under the same name and docket number. Both documents can be found at https://www.regulations.gov and comments can be made to either document.

In accordance with 33 CFR 117.35(e), the drawbridge must return to its regular operating schedule immediately at the end of the effective period of this temporary deviation. This deviation from the operating regulations is authorized under 33 CFR 117.35.

II. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments at https://www.regulations.gov. To do so, go to https://www.regulations.gov, type USCG-2025-0805 in the search box and click “Search.” Next, look for this document in the Search Results column, and click on it. Then click on the Comment option. If your material cannot be submitted using https://www.regulations.gov, contact the person in the FOR FURTHER INFORMATION CONTACT section of this document for alternate instructions.

View material in the docket. To view documents mentioned in this deviation as being available in the docket, find the docket as described in the previous paragraph, and then select “Supporting & Related Material” in the Document Type column. Public comments will also be placed in our online docket and can be viewed by following instructions on the https://www.regulations.gov Frequently Asked Questions web page. Also, if you go to the online docket and sign up for email alerts, you will be notified when comments are posted, or a final rule is published of any posting or updates to the docket.

Personal information. We accept anonymous comments. Comments we post to https://www.regulations.gov will include any personal information you have provided. For more about privacy and submissions in response to this document, see DHS's eRulemaking System of Records notice (85 FR 14226, March 11, 2020).

M.E. Platt,
Rear Admiral, U.S. Coast Guard, Commander, Northeast Guard District.

[FR Doc. 2025-20163 Filed 11-17-25; 8:45 am]

BILLING CODE 9110-04-P